FEDERAL COMMUNICATIONS COMMISSION

Information Collection Being Reviewed by the Federal Communications Commission

AGENCY: Federal Communications Commission.

ACTION: Notice and request for comments.

SUMMARY: The Federal Communications Commission (FCC), as part of its continuing effort to reduce paperwork burdens, invites the general public and other Federal agencies to take this opportunity to comment on the following information collection, as required by the Paperwork Reduction Act (PRA) of 1995. Comments are requested concerning (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden on small business concerns with fewer than 25 employees.

The FCC may not conduct or sponsor a collection of information unless it displays a currently valid control number. No person shall be subject to any penalty for failing to comply with a collection of information subject to the PRA that does not display a valid Office of Management and Budget (OMB) control number.

DATES: Written PRA comments should be submitted on or before September 12, 2011. If you anticipate that you will be submitting comments, but find it difficult to do so within the period of time allowed by this notice, you should advise the contact listed below as soon as possible.

ADDRESSES: Submit your PRA comments to Nicholas A. Fraser, Office of Management and Budget, via fax at 202-395-5167 or via Internet at Nicholas_A._Fraser@omb.eop.gov and to Paul Laurenzano, FCC, via e-mail PRA@fcc.gov and to Paul.Laurenzano@fcc.gov.

FOR FURTHER INFORMATION CONTACT: For additional information about the information collection, contact Paul Laurenzano at (202) 418-1359.

SUPPLEMENTARY INFORMATION: OMB Control Number: 3060-0147.

Title: Section 64.804, Extension of Unsecured Credit for Interstate and Foreign Communication Services to Candidates for Federal Office.

Form Number: N/A.

Type of Review: Extension of a currently approved collection.

Respondents: Business or other for-profit.

Number of Respondents and Responses: 13 respondents; 13 responses.

Estimated Time per Response: 8 hours.

Frequency of Response: Annual reporting requirement and recordkeeping requirement.

Obligation to Respond: Mandatory—Statutory authority for this information collection is contained in section 401 of the Federal Election Campaign Act of 1971, Public Law 92-225 together with the 1971 Revenue Act, Public Law 92-178 and Section 64.804 of the Commission's Rules and Regulations.

Total Annual Burden: 104 hours.

Total Annual Cost: No cost.

Privacy Act Impact Assessment: This information collection does not affect individuals or households; thus, there are no impacts under the privacy Act.

Nature and Extent of Confidentiality: Ordinarily questions of a sensitive nature are not involved in the filed data. The Commission contends that areas in which information is required are fully subject to regulation and the issue of data being regarded as sensitive will arise on special circumstances only. In such circumstances, the respondent is instructed on the appropriate procedures to follow to safeguard data. If respondents wish to request confidential treatment of their documents, they may do so under 47 CFR 0.459 of the Commission's rules.

Needs and Uses: This collection will be submitted to extend an existing collection, with no changes, that is expiring. Collection of this information is required by statute—section 401 of the Federal Election Campaign Act of 1971, Public Law 92-225, together with the 1971 Revenue Act, Public Law 92-178. Pursuant to Section 64.804(c) of the Commission's Rules and Regulations, before extending unsecured credit, a carrier must obtain a signed, written application for service which shall identify the applicant and the candidate and state whether or not the candidate assumes responsibility for charges, and which shall state that the applicant or applicants are liable for payment and that the applicant understands that the carrier will discontinue service under the provision of paragraph (d) of Section 64.804 if payment is not rendered. Section 64.804(f) also requires that the records of each account, involving the extension by a carrier of unsecured credit to a candidate or person on behalf of such candidate for common carrier communications services shall be maintained by the carrier as to show separately, for interstate and foreign communications services all charges, credits, adjustments, and security, if any, and balance receivable. Section 64.804(g) requires communications common carriers with operating revenues exceeding $1 million who extend unsecured credit to a political candidate or person on behalf of such candidate for Federal office to report annually seven basic items, including balance due carrier, payment arrangements, if any, and date, action and status of any action taken at law for interstate and foreign communication services. The information collected is used by the Commission to monitor the extent of credit extended to Federal office candidates.

Federal Communications Commission.
Bulah P. Wheeler,
Deputy Manager, Office of the Secretary, Office of Managing Director.

[FR Doc. 2011-17564 Filed 7-12-11; 8:45 am]

BILLING CODE 6712-01-P